Title 3—

The President

Executive Order 13250 of December 28, 2001

Providing an Order of Succession Within the Department of Health and Human Services

By the authority vested in me as President by the Constitution and laws of the United States of America, including the Federal Vacancies Reform Act of 1998, 5 U.S.C. 3345 et seq., it is hereby ordered that:

Section 1. Subject to the provisions of section 3 of this order, the officers named in section 2, in the order listed, shall act as and perform the functions and duties of the Office of the Secretary of Health and Human Services (Secretary) during any period when both the Secretary and the Deputy Secretary of Health and Human Services (Deputy Secretary) have died, resigned, or become otherwise unable to perform the functions and duties of the office of Secretary.

Sec. 2. Order of Succession.

(a) The Assistant Secretaries of Health and Human Services appointed by the President and confirmed by the Senate, in the order in which they shall have taken the oath of office as such;

(b) The General Counsel of the Department of Health and Human Services; and

(c) Other officers within the Department of Health and Human Services who have been appointed by the President by and with the consent of the Senate, in the order in which they shall have taken the oath of office as such.

Sec. 3. Exceptions.

(a) No individual who is serving in an office listed in section 2(a)-(c) of this order in an acting capacity shall act as Secretary pursuant to this order.

(b) Notwithstanding the provisions of this order, the President retains discretion, to the extent permitted by the Federal Vacancies Reform Act of 1998, 5 U.S.C. 3345 et seq., to depart from this order in designating an acting Secretary.

B

THE WHITE HOUSE,

December 28, 2001.

[FR Doc. 02-917

Filed 01-10-02; 8:45 am]

Billing code 3195-01-P